SMALL BUSINESS ADMINISTRATION

Privacy Act System of Records Notice

AGENCY: Small Business Administration.

ACTION: Notice of new system of records.

SUMMARY: The Small Business Administration is adding a new system of records to the Agency's Privacy Act System of Records. The new system is called “Cost Allocation Data System” (CADS). The purpose of CADS is to collect uniform information on employee time and Agency costs for the Office of the Chief Financial Officer. It collects the percentage (%) of time that each SBA employee spent on administering the various SBA programs and activities via a web-based survey. Later, the survey result is matched against the Agency payroll file based on the employee's Social Security Number, first and last name. Data collected is to be used to develop accurate cost data for Agency's various programs and activities. It supports the Agency's budget, financial reporting and the Government Performance & Results Act (GPRA) requirements. Generally, designated Program Managers in Headquarters and the District Directors will have access to individual survey results for quality assurance purpose. They will also have access to loan program data for management analysis.

DATES: The new system will be effective without further notice, unless comments are received that result in a need for modification.

ADDRESSES: Address comments to Joseph Lodo, Chief Financial Officer, Office of the Chief Financial Officer, Small Business Administration, 409 3rd Street, SW., Suite 6000, Washington, DC 20416.

FOR FURTHER INFORMATION CONTACT: Joseph Lodo, Chief Financial Officer, Office of the Chief Financial Officer, (202) 205-6449.

SBA 175

SYSTEM NAME:

Cost Allocation Data System (CADS), U.S. Small Business Administration (SBA).

SYSTEM LOCATION:

Office of the Chief Financial Officer, SBA Headquarters.

CATEGORIES OF INDIVIDUALS COVERED BY THE SYSTEM:

All SBA employees.

CATEGORIES OF RECORDS IN THE SYSTEM:

Individual information on all SBA employees, i.e., name, social security number, office code, employee's pay data, employee's survey result on the percentage (%) of time spent on administration of the various SBA programs and activities. Also, the Agency-wide costs, i.e., rent, postage, telecommunications, centralized printing, centralized training, employees' relocation costs, credit report costs, performance management appraisal system (PMAS) awards, contractors costs, Agency loan count and SBA employment full time equivalent (FTE) count.

AUTHORITY FOR MAINTENANCE OF THE SYSTEM:

44 U.S.C. 3101 (Records Management by Federal Agencies), Pub. L. 101-576 (CFO Act) and Pub. L. 103-62 (Results Act).

ROUTINE USES OF RECORDS MAINTAINED IN THE SYSTEM, INCLUDING CATEGORIES OF USERS AND THE PURPOSES OF SUCH USES:

These records may be used, disclosed, or referred:

(a) To the Agency cost contractor for use in the Agency's cost accounting activity.

(b) To a Congressional office from an individual's record when the office is inquiring on the individual's behalf. The Member's access rights are no greater than the individual's.

(c) To the Federal, state, local or foreign agency or organization which investigates, prosecutes, or enforces violations, statues, rules, regulations, or orders issued when an Agency identifies a violation or potential violation of law, arising by general or program statute, or by regulation, rule, or order.

(d) To Agency volunteers and interns for use in their official duties.

(e) To the Department of Justice (DOJ) when:

(1) The agency, or any component thereof; or

(2) Any employee of the Agency in his or her official capacity: or

(3) Any employee of the Agency in his or her official capacity where the DOJ has agreed to represent the employee; or

(4) The United States Government, where the Agency determines that litigation is likely to affect the Agency or any of its components, is a party to litigation or has an interest in such litigation, and the use of such records by the DOJ is deemed by the Agency to be relevant and necessary to the litigation, provided, however, that in each case, the Agency determines that disclosure of the records to the DOJ is a use of the information contained in the records that is compatible with the purpose for which the records were collected.

(f) To disclose them in a proceeding before a court or adjudicative body before which the Agency is authorized to appear, when:

(1) The Agency, or any component thereof; or

(2) Any employee of the Agency in his or her official capacity; or

(3) Any employee of the Agency in his or her individual capacity where the Agency has agreed to represent the employee; or

(4) The United States Government, where the Agency determines that litigation is likely to affect the Agency, or any of its components, is a party to litigation or has an interest in such litigation, and the Agency determines that use of such records is relevant and necessary to the litigation, provided, however, that in each case, the Agency determines that disclosure of the records to a court or other adjudicative body is a use of the information contained in the records that is a use of the information contained in the records that is compatible with the purpose for which the records were collected.

POLICIES AND PRACTICES FOR STORING, RETRIEVING, ACCESSING, RETAINING AND DISPOSING OF RECORDS:

STORAGE:

The electronic form is maintained in a database which is behind the Agency's firewall.

RETRIEVABILITY:

The employee's Social Security Number, and first and last name retrieve survey result.

SAFEGUARDS:

Access and use of the CADS are accomplished via the use of a restricted password. Access and use are limited to Project Lead and Group members and only those other Agency employees whose official duties require such access.

RETENTION AND DISPOSAL:

In accordance with SBA SOP 00 41 2, Item #65:06, these records are retained a minimum of 3 years and generally destroyed 3 years after last update.

SYSTEM MANAGER(s) AND ADDRESS:

Chief Financial Officer, Office of the Chief Financial Officer, Small Business Administration, 409 3rd Street, SW., Suite 6000, Washington, DC 20416.

NOTIFICATION PROCEDURE:

An individual may submit a record inquiry either in person or in writing to the System Manager or Privacy Act Officer. Individuals inquiring about this system must follow the SBA Privacy Act Regulations at 13 CFR 102 Subpart B.

RECORDS ACCESS PROCEDURES:

Systems Manager or Privacy Act Officer will determine procedures. Individuals inquiring about this system must follow the SBA Privacy Act Regulations at 13 CFR 102 Subpart B.

CONTESTING RECORD PROCEDURES:

Notify the official listed about and state reason(s) for contesting and the proposed amendment sought, as indicated in 13 CFR 102 Subpart B.

RECORD SOURCE CATEGORIES:

SBA employees to whom the records belong.

Dated: February 22, 2001.
Christopher Holleman,
Acting Senior Privacy Act Official.

[FR Doc. 01-4904 Filed 2-27-01; 8:45 am]

BILLING CODE 8025-01-P